SECURITIES AND EXCHANGE COMMISSION

Sunshine Act Meeting

Federal Register Citation of Previous Announcement: [69 FR 31649, June 4, 2004].

Status: Open Meeting.

Place: 450 Fifth Street, NW., Room 1C30, Washington, DC.

Date and Time of Previously Announced Meeting: Wednesday, June 9, 2004 at 10 a.m.

Change in the Meetings: Date and Time Change.

The Open Meeting scheduled for Wednesday, June 9, 2004 at 10 a.m., has been changed to Wednesday, June 23, 2004 at 9:30 a.m.

At times, changes in Commission priorities require alterations in the scheduling of meeting items. For further information and to ascertain what, if any, matters have been added, deleted or postponed, please contact:

The Office of the Secretary at (202) 942-7070.

Dated: June 8, 2004.
Jonathan G. Katz,
Secretary.

[FR Doc. 04-13272 Filed 6-8-04; 11:37 am]

BILLING CODE 8010-01-P